DEPARTMENT OF ENERGY

Federal Energy Regulatory Commission

[Docket No. PL04-2-000]

Compensation for Generating Units Subject to Local Market Power Mitigation in Bid-Based Markets; Notice of Meetings

March 15, 2004.

On February 4 and 5, 2004, the Commission held technical conferences to discuss issues related to local market power mitigation and the methods of compensating must-run generators in organized markets.¹ Several parties submitted comments after the technical conferences in the above docket. To further discuss the generic issues raised in the above docket, Staff will be meeting with various interested persons through April 30, 2004. At these meetings, we will not discuss any specific issues related to any contested proceedings before the Commission.

¹ In an Order issued December 19, 2003, the Commission directed staff to convene a two-part technical conference on compensation of must run generating units. Compensation for Generating Units Subject to Local Market Power Mitigation in Bid-Based Markets, 105 FERC ¶ 61,312 (2003).

Any questions about the meetings should be directed to:

Michael Coleman, Office of Markets, Tariffs, and Rates, 888 First Street, NE., Washington, DC 20426, 202-502-8236, michael.coleman@ferc.gov.

David Perlman, Office of General Counsel, 888 First Street, NE., Washington, DC 20426, 202-502-6408, david.perlman@ferc.gov.

Magalie R. Salas,
Secretary.

[FR Doc. E4-636 Filed 3-19-04; 8:45 am]

BILLING CODE 6717-01-P